INTERNATIONAL TRADE COMMISSION

[Investigation Nos. 731-TA-678, 679, 681, and 682 (Fourth Review)]

Stainless Steel Bar From Brazil, India, Japan, and Spain; Determination

On the basis of the record ¹ developed in the subject five-year reviews, the United States International Trade Commission (“Commission”) determines, pursuant to the Tariff Act of 1930 (“the Act”), that revocation of the antidumping duty order on stainless steel bar from India would be likely to lead to continuation or recurrence of material injury to an industry in the United States within a reasonably foreseeable time. The Commission further determines that revocation of the antidumping duty orders on stainless steel bar from Brazil, Japan, and Spain would not be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on July 3, 2017 (82 FR 30905) and determined on October 6, 2017 that it would conduct full reviews (82 FR 48527, October 17, 2017). Notice of the scheduling of the Commission's reviews and of a public hearing to be held in connection therewith was given by posting copies of the notice in the Office of the Secretary, U.S. International Trade Commission, Washington, DC, and by publishing the notice in the Federal Register on March 23, 2018 (83 FR 12814). The hearing was held in Washington, DC, on July 12, 2018, and all persons who requested the opportunity were permitted to appear in person or by counsel.

The Commission made these determinations pursuant to section 751(c) of the Act (19 U.S.C. 1675(c)). It completed and filed its determinations in these reviews on September 17, 2018. The views of the Commission are contained in USITC Publication 4820 (September 2018), entitled Stainless Steel Bar from Brazil, India, Japan, and Spain: Investigation Nos. 731-TA-678, 679, 681, and 682 (Fourth Review).

By order of the Commission.
Issued: September 17, 2018.
Lisa Barton,
Secretary to the Commission.

[FR Doc. 2018-20549 Filed 9-20-18; 8:45 am]

BILLING CODE 7020-02-P